DEPARTMENT OF HEALTH AND HUMAN SERVICES

Administration for Children and Families

Administration on Children, Youth and Families; Supplemental Grant Awards

AGENCY: Family and Youth Services Bureau, ACYF, ACF, DHHS.

ACTION: Notice to award supplemental grants.

CFDA #: 93.592.

Legislative Authority: Family Violence Prevention and Services Act (42 U.S.C. 10401 et seq.)

Amount of Award: $145,000.

Project Period: September 30, 2008-September 29, 2009.

SUMMARY: This notice announces that the Administration on Children, Youth and Families, Family and Youth Services Bureau (FYSB), will award a program expansion supplement award to the Family Violence Prevention Fund (FVPF) in San Francisco, CA to continue the provision of technical support through the Family Violence Prevention and Services (FVPSA) Discretionary Grant Program. FVPF is a leading provider of training and technical assistance for service providers who seek to improve collaboration between domestic violence and child welfare programs. The supplemental award will enable FVPF to plan and implement State-level strategies to educate policy makers and to ensure that State Domestic Violence Coalitions are key stakeholders in the Child and Family Service Review process.

FOR FURTHER INFORMATION CONTACT: Marylouise Kelley, Director, Family Violence Prevention and Services Program, 1250 Maryland Avenue, SW., Washington, DC 20024. Telephone: 202-401-5756. E-mail: marylouise.kelley@acf.hhs.gov.

Dated: September 29, 2008.
Joan E. Ohl,
Commissioner, Administration on Children, Youth and Families.

[FR Doc. E8-23478 Filed 10-3-08; 8:45 am]

BILLING CODE 4184-01-P